DEPARTMENT OF HEALTH AND HUMAN SERVICES

Agency for Toxic Substances and Disease Registry

[30Day-20-0057]

Agency Forms Undergoing Paperwork Reduction Act Review

In accordance with the Paperwork Reduction Act of 1995, the Agency for Toxic Substances and Disease Registry (ATSDR) has submitted the information collection request titled “APPLETREE Performance Measures” to the Office of Management and Budget (OMB) for review and approval. ATSDR previously published a “Proposed Data Collection Submitted for Public Comment and Recommendations” notice on December 23, 2019, to obtain comments from the public and affected agencies. ATSDR did not receive comments related to the previous notice. This notice serves to allow an additional 30 days for public and affected agency comments.

ATSDR will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

APPLETREE Performance Measures (OMB Control No. 0923-0057, Exp. 07/31/2020)—Revision—Agency for Toxic Substances and Disease Registry (ATSDR).

Background and Brief Description

The Agency for Toxic Substances and Disease Registry (ATSDR) seeks to build and sustain the capacity to evaluate exposures to hazardous waste across the country. Releases from hazardous waste sites are a major source of harmful exposures in homes, schools, workplaces, and communities. These exposures are often complex and may be difficult to identify and control. Hazardous waste sites may involve various toxic substances, exposure pathways, and health impacts. ATSDR's primary goal is to keep communities safe from harmful exposures and related diseases. To accomplish this goal, the agency works closely with partnering agencies to evaluate exposures at hazardous waste sites, educate communities, and seek new ways to better protect public health.

ATSDR's Partnership to Promote Local Efforts to Reduce Environmental Exposure (APPLETREE) Program is critical to ATSDR's success in accomplishing its mission in communities nationwide. ATSDR's recipients will use APPLETREE funding to advance ATSDR's primary goal of keeping communities safe from harmful environmental exposures and related diseases. APPLETREE gives recipients the resources to build their capacity to assess and respond to site-specific issues involving human exposure to hazardous substances in the environment. APPLETREE helps recipients identify exposure pathways at specific sites; educate affected communities about site contamination and potential health effects; make recommendations to prevent exposure; review health outcome data to evaluate potential links between site contaminants and community health outcomes. APPLETREE facilitates the implementation of state-level programs to ensure that potential early care and education facilities are in areas free from harmful environmental exposures. It also encourages recipients in the innovation of progressive public health interventions that prevent exposures to environmental contamination. Because of APPLETREE recipients' local connections and partnerships, community engagement and implementation of recommendations is improved. This program is authorized under Sections 104(i)(15) of the Comprehensive Environmental Response, Compensation, and Liability Act (CERCLA) of 1980, as amended by the Superfund Amendments and Reauthorization Act (SARA) of 1986 [42 U.S.C. 9604(i)(15)].

Under the next three-year APPLETREE cooperative agreement (NOFO No. CDC-RFA-TS20-2001), eligible applicants include federally recognized American Indian/Alaska Native tribal governments; American Indian/Alaska native tribally designated organizations; political subdivisions of states (in consultation with states); and state and local governments or their bona fide agents. ATSDR technical project officers (TPOs) will assist 28 APPLETREE recipients to address site-specific issues involving human exposure to hazardous substances. Key capacities include identification of human exposure pathways at ATSDR sites, education of affected communities and local health professionals about site contamination and potential health effects; making appropriate recommendations to prevent exposure; reviewing health outcome data to evaluate potential links between site contaminants and community health; and documenting the effects of environmental remediation on health.

This is a revision information collection request (ICR) titled “APPLETREE Performance Measures,” previously approved under OMB Control No. 0923-0057 (expiration date 07/31/2020). ATSDR will continue to collect information related to recipient activities, and the process and outcome performance measures outlined by the cooperative agreement program. Information will be used to monitor progress toward program goals and objectives, and for program quality improvement. The first five forms were previously approved by OMB. The first three forms, formerly reported in SharePoint, will be migrated to a new information technology (IT) system called ATSDR's Request Management Service System (ARMSS).

1. ATSDR Health Education Activity Tracking (HEAT) Form: For each environmental health assessment and health education activity conducted at ATSDR sites, APPLETREE Recipients shall quantitatively assess and report efforts to educate community members about site recommendations and health risks using indicators to assess community understanding of site findings about health risks and community understanding of agency recommendations to reduce health risks. This information will be entered in to the ATSDR HEAT system for each activity at ATSDR sites.

2. ATSDR Technical Assistance (TA) Activity Form: Throughout the budget year, this form will be used to record the routine requests made of the recipients and their program responses. These responses do not evaluate environmental data and do not make health calls, but they are monitored by ATSDR as part of the recipients' performance.

3. ATSDR Site Impact Assessment (SIA) Form: For each environmental health assessment and health education activity conducted at ATSDR sites, recipients shall estimate and report the number of people protected from exposure to toxic substances at each site where implementation of agency recommendations has taken place and at each child care center where safe siting guidelines have been implemented. To the extent possible, recipients shall estimate and report the disease burden prevented due to the implementation of site recommendations and safe siting guidelines.

Recipients will continue to submit the following form to ATSDR via SharePoint:

4. ATSDR Success Story Form: Recipients will provide one success story per quarter (four success stories total per year) that highlights an impact of any of their programs. Recipients will report a brief summary, background, intervention/action taken, and accomplishment/impact for each story. Optionally, they may include a photo or quote.

Recipients will submit the following five forms to ATSDR via email. As part of the revision request, the last four forms are new.

5. APPLETREE Annual Performance Report (APR) Template: Recipients will continue to provide an APR each year and at the end of the funding cycle, which summarizes their annual and funding cycle performances, respectively. APRs will be due in December of each year to coincide with the CDC Grants Management annual reports to reduce overall reporting burden and the final report will be due at the end of the funding cycle. The purpose of the performance reports will be to assess Partners based on performance measures and evaluation projects. The reports should include a summary of performance measures, results of any evaluation projects, accompanying narrative of progress and interpretation of results, optional successes, challenges, and updated work plan. These reports will be entered into a Microsoft Word form.

6. Choose Safe Places for Early Care and Education (CSPECE) Qualitative Narrative Form: Recipients will now provide a narrative report of their CSPECE Programs to document descriptive details of their state's landscape, program plan, program implementation, and results that cannot be captured through numbers. Recipients will complete and submit the narrative once a year as a supplement with their APRs in a Microsoft Word form.

7. CSPECE Quantitative Form: Recipients will also now provide data on their CSPECE Programs to quantify aspects of their program such as children reached, target audiences screened, and recommendations implemented. To supplement their APRs, recipients will complete and submit a Microsoft Excel form once a year as a supplement with their APRs.

In addition to the required annual reporting, at the end of the three-year program, each recipient will report cumulative three-year performance measures for three forms: The APR, the CSPECE Qualitative Narrative Form, and the CSPECE Quantitative Form. This will result in four total responses in a three-year period for each form. The estimated annualized number of required responses is thus rounded to once per year for these three forms, as four hours divided by three years equals 1.33 hours per year.

8. ATSDR SoilSHOP Form: SoilSHOPs are not a required activity; however, if conducted, a recipient will need to complete the ATSDR SoilSHOP Form in Word. This form gathers data on the inputs, activities, outputs, and outcomes of the event, such as the number of soil samples screened, number of elevated soil samples, number of individuals receiving health consultations, and number of individuals receiving referrals. The form should be provided back to ATSDR via email within two weeks of the SoilSHOP completion.

9. ATSDR Recommendation Follow-up Form: For each environmental health assessment, recipients will provide an update on the status of acceptance and implementation of all recommendations to understand whether and how recommendations have been implemented, and the subsequent impact on communities. Recipients will complete a Microsoft Excel reporting form annually on the anniversary date of the release of each health assessment. Initially recipients will provide to ATSDR via email, but the form will be migrated into the ARMSS system in the future.

ATSDR is seeking a three-year Paperwork Reduction Act (PRA) clearance for this revision information collection request. The total annual time burden requested is 267 hours. This reflects a reduction in requested time burden compared to the 272 hours previously approved in 2017. This revision also requests approval for an increase in the annual number of responses from 1,575 in 2017, to 1,886 in this current request. ATSDR will fund 28 recipients, an increase of three additional awards over the previous program. Recipient reporting is required to receive funding under the APPLETREE cooperative agreement.

Estimated Annualized Burden Hours
Type of respondents | Form name | Number of respondents | Number of responses per respondent | Average burden per response (in hours)
APPLETREE Recipients | ATSDR Health Education Activity Tracking (HEAT)Form | 28 | 37 | 3/60
| ATSDR Technical Assistance (TA)Activity Form | 28 | 15 | 5/60
| ATSDR Site Impact Assessment (SIA)Form | 28 | 4 | 7/60
| ATSDR Success Story Form | 28 | 4 | 30/60
| APPLETREE Annual Performance Report(APR) Template | 28 | 1 | 2
| Choose Safe Places for Early Care and Education (CSPECE) Qualitative Narrative Form | 28 | 1 | 1
| CSPECE Quantitative Form | 28 | 1 | 15/60
| ATSDR SoilSHOP Form | 10 | 1 | 7/60
| ATSDR Recommendation Follow-up Form | 28 | 4 | 10/60

Jeffrey M. Zirger,
Lead, Information Collection Review Office, Office of Scientific Integrity, Office of Science, Centers for Disease Control and Prevention.

[FR Doc. 2020-08168 Filed 4-16-20; 8:45 am]

BILLING CODE 4163-18-P